DEPARTMENT OF COMMERCE

Bureau of the Census

15 CFR Parts 50 and 80

[Docket Number 010828220-1220-01]

RIN 0607-AA24

Amendments to Age Search Procedures

AGENCY: Bureau of the Census, Department of Commerce.

ACTION: Notice of proposed rulemaking and request for comments.

SUMMARY: The Bureau of the Census (Census Bureau) proposes a rule that would clarify and revise the general information requirements pertaining to its Age Search program. The Census Bureau is proposing these clarifications to ensure that there are no misunderstandings about the program requirements as a result of ambiguous language. The intent of the Census Bureau in taking these actions is to clarify and revise processing requirements and legal restrictions.

DATES: Written comments must be submitted on or before October 17, 2001.

ADDRESSES: Direct all written comments on this proposed rulemaking to Judith N. Petty, Chief, National Processing Center, U.S. Census Bureau, 1201 East 10th Street, Room 247, Building 66, Jeffersonville, IN 47132, by telephone on (812) 218-3344 or by fax on (812) 218-3293.

FOR FURTHER INFORMATION CONTACT: Stanley M. Domzalski, Assistant Division Chief (Services), National Processing Center, U.S. Census Bureau, 1201 East 10th Street, Room 247, Building 66, Jeffersonville, IN 47132, by telephone on (812) 218-3579 or by fax on (812) 218-3293.

SUPPLEMENTARY INFORMATION:

Background

The age and citizenship searching service is a self-supporting operation of the Census Bureau in accordance with Title 31, United States Code, Section 483a. Under this statute, all expenses incurred in the retrieval of personal information from decennial census records and the preparation of census transcripts are covered by fees paid by individuals who request this service. The Age Search census transcript provides proof of age to qualify individuals for social security or other retirements benefits, proof of citizenship to obtain passports, proof of family relationships for rights of inheritance, or to satisfy other situations where a birth certificate is required but not available. Census records are also considered a valuable tool for genealogical research. The 1910 through 1990 censuses in custody of the Census Bureau are confidential and protected from disclosure by Title 13, United States Code.

Program Requirements

In order to clarify and update the general rules applying to the Age Search Program, the Census Bureau proposes the following four amendments to Title 15, Code of Federal Regulations (CFR), parts 50 and 80:

• Amend § 50.1 to change the time frame from 120 days to 90 days for submitting any required additional information after completing an initial, unsuccessful search. This change is consistent with current policy on the issue.

• Amend § 50.5 to update the note following the chart on the fee structure. The Census Bureau has not had a fee increase since 1993.

• Amend § 80.1 to clarify the procedures for releasing census information. This change is consistent with current policy on the issue.

• Amend § 80.1 to reflect the current address.

Regulatory Flexibility Act

The Chief Counsel for Regulation of the Department of Commerce certified to the Chief Counsel for Advocacy of the Small Business Administration that this proposed rule, if adopted, would not have a significant economic impact on a substantial number of small entities.

The rulemaking revises and clarifies language in procedures and requirements for the Age Search program. The clarification in language does not impose any additional costs or have any other adverse economic impact on small business or entities who use the Age Search program.

The revision to the number of days the public has to submit any required additional information after completing an initial, unsuccessful search may have an effect on program users. The proposed rule would reduce, from 120 to 90, the number of days the public has to submit additional information. The Census Bureau is proposing this revision to the time frame to promote efficiency in the administrative process. While the time period for filing requested information would be 30 days shorter than previously allowed, there is no cost to small entities directly attributable to this reduced time period.

Executive Orders

This rule has been determined to be not significant for purposes of Executive Order 12866. This rule does not contain policies with federalism implications as that term is defined in Executive Order 13132.

Paperwork Reduction Act

Notwithstanding any other provision of law, no person is required to respond to, nor shall a person be subject to a penalty for failure to comply with, a collection of information subject to the requirements of the Paperwork Reduction Act (PRA) unless that collection of information displays a current Office of Management and Budget (OMB) control number. This notice does not represent a collection of information and is not subject to the PRA's requirements. The Form BC-600, referenced in the amended language for § 80.1, has been cleared under OMB control number 0607-0117.

List of Subjects

15 CFR Part 50

Census data, Population census, Statistics.

15 CFR Part 80

Census data, Population census, Statistics

For reasons set out in the preamble, Parts 50 and 80 are amended as follows:

PART 50—SPECIAL SERVICES AND STUDIES BY THE BUREAU OF THE CENSUS

1. The authority citation for 15 CFR part 50 continues to read as follows:

Authority: Sec. 3, 49 Stat. 293, as amended; and 15 U.S.C. 192a. Interprets or applies sec. 1, 40 Stat. 1256, as amended; sec. 1, 49 Stat. 292; sec. 8, 60 Stat. 1013, as amended; 15 U.S.C. 192, 189a; and 13 U.S.C. 8.

2. Amend § 50.1 by revising paragraph (d) to read as follows:

§ 50.1 General.

* * * * *

(d) If a search is unsuccessful and additional information for a further search is requested by the Bureau, such information must be received within 90 days of the request or the case will be considered closed. Additional information received after 90 days must be accompanied by a new fee and will be considered a new request.

* * * * *

3. Amend § 50.5 by revising the following note on the chart.

§ 50.5 Fee structure for age search and citizenship information

* * * * *

Note: The $10.00 for each full schedule requested is in addition to the $40.00 transcript fee.

PART 80—FURNISHING PERSONAL CENSUS DATA FROM CENSUS OF POPULATION SCHEDULES

1. The authority citation for 15 CFR part 80 continues to read as follows:

Authority: Sec. 1, Pub. L. 83-1158, and 68 Stat. 1013 (13 U.S.C. 8).

2. Amend § 80.1 by revising paragraphs (c) and (g) to read as follows:

§ 80.1 General requirements.

* * * * *

(c) Requests for information from decennial census of population records (herein “Census Information”) should be made available on Form BC-600, which is available from offices at the Census Bureau in Suitland, Maryland 20233, and Jeffersonville, Indiana 47131; all county courthouses; Social Security Administration field offices; post offices; and Immigration and Naturalization Service offices. A letter request—without Form BC-600—will be accepted only if it contains the information necessary to complete a Form BC-600. No application will be processed without payment of the required fee as set forth in 15 CFR 50.5.

* * * * *

(g) Census information will not be furnished to another person unless the person to whom the information relates authorizes such release in the space provided on the Form BC-600.

Dated: September 10, 2001.
William G. Barron, Jr.,
Acting Director, Bureau of the Census.

[FR Doc. 01-23164 Filed 9-14-01; 8:45 am]

BILLING CODE 3510-07-P